NATIONAL TRANSPORTATION SAFETY BOARD

Sunshine Act Meeting

TIME AND DATE: 9:30 a.m., Tuesday, June 7, 2016.

PLACE: NTSB Conference Center, 429 L'Enfant Plaza SW., Washington, DC 20594.

STATUS: The two items are open to the public.

MATTERS TO BE CONSIDERED:

8626A Aircraft Accident Report—Aerodynamic Stall and Loss of Control During Approach, Embraer EMB-500, N100EQ, Gaithersburg, Maryland, December 8, 2014.

8707A Marine Accident Report—Collision between Bulk Carrier Conti Peridot and Tanker Carla Maersk, Houston Ship Channel near Morgan's Point, Texas, March 9, 2015.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, June 1, 2016.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Eric Weiss at (202) 314-6100 or by email at eric.weiss@ntsb.gov for the Gaithersburg, MD accident and Terry Williams at (202) 314-6100 or by email at terry.williams@ntsb.gov for the Morgan's Point, TX accident.

Dated: Thursday, May 19, 2016.
Candi R. Bing,
Federal Register Liaison Officer.

[FR Doc. 2016-12263 Filed 5-20-16; 11:15 am]

BILLING CODE 7533-01-P